DEPARTMENT OF HOUSING AND URBAN DEVELOPMENT

[Docket No. FR-5513-N-01]

Notice of Availability of a Final Environmental Impact Statement for the Sunset Area Community Planned Action, City of Renton, WA

AGENCY: Office of the Assistant Secretary for Community Planning and Development, HUD.

ACTION: Notice.

SUMMARY: The Department of Housing and Urban Development (HUD) gives this notice to the public, agencies and Indian Tribes on the availability for public review and comment of the Final Environmental Impact Statement (Final EIS) for the redevelopment of the Sunset Terrace public housing community in Renton, WA. HUD gives this notice on behalf of the City of Renton acting as the Responsible Entity for compliance with the National Environmental Policy Act (NEPA). Pursuant to the authority granted by section 26 of the U.S. Housing Act of 1937 (42 U.S.C. 1437x) in connection with projects assisted under section 9 of that Act (42 U.S.C. 1437g), the City of Renton has assumed responsibility for compliance with NEPA (42 U.S.C. 4321) in accordance with 24 CFR 58.1 and 58.4, and is the lead agency for compliance with the Washington State Environmental Policy Act (SEPA, RCW 43.21C). The EIS is a joint NEPA and SEPA document intended to satisfy requirements of Federal and State environmental statutes. A NEPA Record of Decision (ROD) will be issued after the 30-day availability period. This notice is given in accordance with the Council on Environmental Quality regulations at 40 CFR parts 1500-1508.

DATES: The NEPA/SEPA Final EIS will be available until May 2, 2011.

FOR FURTHER INFORMATION CONTACT: Erika Conkling, AICP, Senior Planner, City of Renton Department of Community and Economic Development, 1055 S. Grady Way, Renton, WA 98057, 425-430-6578 (voice) 425-430-7300 (fax), or e-mail: econkling@rentonwa.gov.

Copies of the Final EIS are available at the above address for reference, and copies may be purchased for the cost of reproduction. The Final EIS is also available on the Internet and can be viewed or downloaded at: http://rentonwa.gov/business/default.aspx?id=2060.

SUPPLEMENTARY INFORMATION: The proposal includes redevelopment of the Renton Housing Authority's (RHA's) Sunset Terrace public housing community, a 7.3-acre property with 100 existing units contained in 27 buildings that are 50-year-old, two-story structures, located at the intersection of NE. Sunset Boulevard and Harrington Avenue NE. RHA also owns additional vacant land (approximately 3 acres with two dwelling units) along Edmonds Avenue NE., Glenwood Avenue NE., and Sunset Lane NE., and intends to purchase additional property adjacent to Sunset Terrace, along Harrington Avenue NE. (which contains about 8 dwellings); RHA plans to incorporate these additional properties into the Sunset Terrace redevelopment for housing and associated services. The Sunset Terrace public housing community units, facilities, and infrastructure are antiquated and the project is dilapidated.

Conceptual plans propose redevelopment of Sunset Terrace and adjacent properties with mixed-income, mixed-use residential and commercial space and public amenities. The redevelopment would include a 1-to-1 unit replacement for all 100 existing public housing units. All existing public housing units will be replaced either on-site or off-site, at locations within the existing Sunset Terrace site, and the Planned Action Study Area within the City; no net loss of low income housing units would occur. The project will require relocation of all existing residents and RHA is developing a relocation plan. It is expected that, with the Sunset Terrace property and associated properties owned or purchased by RHA, up to 479 additional new units could be constructed with a portion of the total units being public, affordable, and market rate. Public amenities would be integrated with the residential development and could include the following: a community gathering space or “third place;” civic facilities such as a community center, senior center, and/or public library space; a new park/open space; retail shopping and commercial space; and green infrastructure.

Sunset Terrace's redevelopment provides the opportunity to evaluate the neighborhood as a whole and determine what future land use redevelopment is possible and what public service and infrastructure improvements should be made in order to make this a more vibrant and attractive community for residents, businesses and property owners. The EIS addresses the primary proposal of the Sunset Terrace area redevelopment as well as evaluate secondary proposals such as neighborhood redevelopment and supporting services and infrastructure improvements.

The City of Renton is also proposing to adopt a Planned Action Ordinance pursuant to SEPA. A Planned Action Ordinance, if adopted, would not require future SEPA threshold determinations or EISs for future projects that are consistent with EIS assumptions and mitigation measures.

The Final EIS completes the environmental review process by revising or clarifying portions of the analysis and responding to public and agency comments on the Draft EIS. The Final EIS also introduces and reviews another alternative, called the Preferred Alternative, which is within the range of alternatives studied in the Draft EIS. The City analyzed three alternatives (Alternatives 1, 2, and 3) as part of the Draft EIS to determine its Preferred Alternative. The Preferred Alternative is evaluated in the Final EIS. All four alternatives are described below.

Alternative 1; No Action. RHA would develop affordable housing on two vacant properties, but it would not redevelop the Sunset Terrace public housing property. Very limited public investment would be implemented (e.g., some community services but no NE Sunset Boulevard or drainage improvements), resulting in lesser redevelopment across the Planned Action study area. A Planned Action would not be designated. The No Action Alternative is required to be studied under NEPA and SEPA.

Alternative 2. This alternative represents a moderate level of growth in the Planned Action Study Area based on investment in mixed-income housing and mixed uses in the Potential Sunset Terrace Redevelopment Subarea, targeted infrastructure and public services throughout the Planned Action study area, and adoption of a Planned Action Ordinance.

Alternative 3. This alternative represents the highest level of growth in the Planned Action study area, based on investment in the Potential Sunset Terrace Redevelopment Subarea with a greater number dwellings developed in a mixed-income, mixed-use style, major public investment in study area infrastructure and services, and adoption of a Planned Action Ordinance.

Preferred Alternative. This alternative represents neighborhood growth similar to and slightly less than Alternative 3 in the Planned Action Study Area, based on investment in the Potential Sunset Terrace Redevelopment Subarea with a moderate number dwellings developed in a mixed-income, mixed-use style oriented around a larger park space and loop road, major public investment in study area infrastructure and services, and adoption of a Planned Action Ordinance.

Questions may be directed to the individual named above under the heading of FOR FURTHER INFORMATION CONTACT.

Dated: March 30, 2011.
Mercedes M. Márquez,
Assistant Secretary for Community Planning and Development.

[FR Doc. 2011-7945 Filed 4-1-11; 8:45 am]

BILLING CODE 4210-67-P